DEPARTMENT OF ENERGY

Federal Energy Regulatory Commission

Combined Notice of Filings

December 28, 2009.

Take notice that the Commission has received the following Natural Gas Pipeline Rate and Refund Report filings:

Docket Numbers: RP10-254-000.

Applicants: East Tennessee Natural Gas, LLC.

Description: East Tennessee Natural Gas, LLC submits Eighth Revised Sheet 394 to its FERC Gas Tariff, Third Revised Volume 1 to be effective 1/13/10.

Filed Date: 12/18/2009.

Accession Number: 20091222-0048.

Comment Date: 5 p.m. Eastern Time on Wednesday, December 30, 2009.

Docket Numbers: RP10-255-000.

Applicants: Maritimes & Northeast Pipeline, LLC.

Description: Maritimes & Northeast Pipeline submits Original Sheet 9S et al. to its FERC Gas Tariff, First Revised Volume 1.

Filed Date: 12/18/2009.

Accession Number: 20091222-0047.

Comment Date: 5 p.m. Eastern Time on Wednesday, December 30, 2009.

Docket Numbers: RP10-256-000.

Applicants: Northwest Pipeline GP.

Description: Northwest Pipeline, GP submits Fifth Revised Sheet 395 et al. to its FERC Gas Tariff, Fourth Revised Volume 1.

Filed Date: 12/18/2009.

Accession Number: 20091222-0046.

Comment Date: 5 p.m. Eastern Time on Wednesday, December 30, 2009.

Docket Numbers: RP10-257-000.

Applicants: Rockies Express Pipeline LLC.

Description: Rockies Express Pipeline, LLC submits Original Sheet 11B to its FERC Gas Tariff, Second Revised Volume 1.

Filed Date: 12/18/2009.

Accession Number: 20091222-0045.

Comment Date: 5 p.m. Eastern Time on Wednesday, December 30, 2009.

Docket Numbers: RP10-258-000.

Applicants: Northern Natural Gas Company.

Description: Northern Natural Gas Company submits 12 Revised Sheet 66B.35 to its FERC Gas Tariff, Fifth Revised Volume 1.

Filed Date: 12/18/2009.

Accession Number: 20091222-0044.

Comment Date: 5 p.m. Eastern Time on Wednesday, December 30, 2009.

Docket Numbers: RP10-259-000.

Applicants: Transcontinental Gas Pipe Line Company,

Description: Transcontinental Gas Pipe Line Company, LLC submits First Revised Sheet 502 et al. to its FERC Gas Tariff, Fourth Revised Volume 1, to be effective 1/18/10.

Filed Date: 12/18/2009.

Accession Number: 20091222-0043.

Comment Date: 5 p.m. Eastern Time on Wednesday, December 30, 2009.

Docket Numbers: RP10-260-000.

Applicants: Transcontinental Gas Pipe Line Company, LLC.

Description: Transcontinental Gas Pipe Line Company, LLC submits First Revised Sheet 336 et al. to its FERC Gas Tariff, Fourth Revised Volume 1 to be effective 1/18/10.

Filed Date: 12/18/2009.

Accession Number: 20091222-0042.

Comment Date: 5 p.m. Eastern Time on Wednesday, December 30, 2009.

Docket Numbers: RP10-261-000.

Applicants: Northern Natural Gas Company.

Description: Northern Natural Gas Company submits 13 Revised Sheet 66B.35 to FERC Gas Tariff, Fifth Revised Volume 1 to be effective 12/22/09.

Filed Date: 12/22/2009.

Accession Number: 20091222-0041.

Comment Date: 5 p.m. Eastern Time on Monday, January 04, 2010.

Docket Numbers: RP10-262-000.

Applicants: Gulf South Pipeline Company, LP.

Description: Gulf South Pipeline Co, LP submits First Revised Sheet No. 2500 to FERC Gas Tariff, Sixth Revised Volume No. 1.

Filed Date: 12/22/2009.

Accession Number: 20091223-0091.

Comment Date: 5 p.m. Eastern Time on Monday, January 04, 2010.

Docket Numbers: RP10-264-000.

Applicants: Natural Gas Pipeline Company of America LLC.

Description: Natural Gas Pipeline Company of America LLC submits an amendment to an existing Firm Transportation Rate Discount Agreement with The Board of Trustees of University of Illinois, to be effective 1/1/10.

Filed Date: 12/23/2009.

Accession Number: 20091224-0019.

Comment Date: 5 p.m. Eastern Time on Monday, January 04, 2010.

Docket Numbers: RP10-265-000.

Applicants: Equitrans, LP.

Description: Equitrans, LP submits Fifteenth Revised Sheet 11 to FERC Gas Tariff, Original Volume 1, to be effective 1/1/10.

Filed Date: 12/23/2009.

Accession Number: 20091224-0018.

Comment Date: 5 p.m. Eastern Time on Monday, January 04, 2010.

Docket Numbers: RP10-266-000.

Applicants: Sabine Pipe Line LLC.

Description: Sabine Pipe Line LLC submits Original Sheet No. 310B et al. to FERC Gas Tariff, Original Volume No. 1.

Filed Date: 12/22/2009.

Accession Number: 20091224-0020.

Comment Date: 5 p.m. Eastern Time on Monday, January 04, 2010.

Docket Numbers: RP10-267-000.

Applicants: Bear Creek Storage Company, LLC.

Description: Notice of name change for Bear Creek Storage Company to Bear Creek Storage Company, LLC of Bear Creek Storage Company.

Filed Date: 12/21/2009.

Accession Number: 20091221-5134.

Comment Date: 5 p.m. Eastern Time on Monday, January 04, 2010.

Docket Numbers: RP10-268-000.

Applicants: Kinder Morgan Interstate Gas Trans. LLC.

Description: Kinder Morgan Interstate Gas Transmission LLC Submits 2009 Reconciliation Filing.

Filed Date: 12/22/2009.

Accession Number: 20091222-5236.

Comment Date: 5 p.m. Eastern Time on Monday, January 04, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-461 Filed 1-12-10; 8:45 am]

BILLING CODE 6717-01-P